DEPARTMENT OF STATE

[Public Notice 8730]

Culturally Significant Object Imported for Exhibition Determinations: “Expressionism in Germany and France: From Van Gogh to Kandinsky”

AGENCY: Department of State.

ACTION: Notice, correction.

SUMMARY: On April 14, 2014, notice was published on page 20960 of the Federal Register (volume 79, number 71) of determinations made by the Department of State pertaining to the exhibition “Expressionism in Germany and France: From Van Gogh to Kandinsky.” The referenced notice is corrected here to include an additional object as part of the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the additional object to be included in the exhibition “Expressionism in Germany and France: From Van Gogh to Kandinsky,” imported from abroad for temporary exhibition within the United States, is of cultural significance. The object is imported pursuant to a loan agreement with the foreign owner or custodian. I also determine that the exhibition or display of the additional object at the Los Angeles County Museum of Art, Los Angeles, California, from on or about June 8, 2014, until on or about September 14, 2014, and at possible additional exhibitions or venues yet to be determined, is in the national interest. I have ordered that Public Notice of these Determinations be published in the Federal Register.

FOR FURTHER INFORMATION CONTACT: For further information, including a description of the additional object, contact Paul W. Manning, Attorney-Adviser, Office of the Legal Adviser, U.S. Department of State (telephone: 202-632-6469). The mailing address is U.S. Department of State, SA-5, L/PD, Fifth Floor (Suite 5H03), Washington, DC 20522-0505.

Dated: May 7, 2014.
Evan Ryan,
Assistant Secretary, Bureau of Educational and Cultural Affairs, Department of State.

[FR Doc. 2014-10940 Filed 5-12-14; 8:45 am]

BILLING CODE 4710-05-P